POSTAL SERVICE

39 CFR Part 111

Periodicals Requester Records Requirements

AGENCY: Postal Service™.

ACTION: Final rule.

SUMMARY: The Postal Service is amending Mailing Standards of the United States Postal Service, Domestic Mail Manual (DMM®) to revise verification requirements for authorized audit bureaus.

DATES: Effective July 7, 2022.

FOR FURTHER INFORMATION CONTACT: Dale Kennedy at (202) 268-6592.

SUPPLEMENTARY INFORMATION: On March 24, 2022, the Postal Service published a notice of proposed rulemaking (NPRM) (87 FR 16702-16703) to revise verification requirements for authorized audit bureaus. The Postal Service did not receive any comments regarding the NPRM.

The Postal Service is enacting new procedures for auditing compliance with circulation standards for Periodicals requester publications and standardizing existing procedures across Postal Service publications.

In addition, the Postal Service is revising the applicable Customer Support Ruling and customer Handbooks to reflect this DMM revision.

We will publish an appropriate amendment to 39 CFR part 111 to reflect these changes.

List of Subjects in 39 CFR Part 111

Administrative practice and procedure, Postal Service.

Accordingly, the Postal Service amends Mailing Standards of the United States Postal Service, Domestic Mail Manual (DMM), incorporated by reference in the Code of Federal Regulations as follows (see 39 CFR 111.1):

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

200 Commercial Mail Letters, Flats, and Parcels

* * * * *

207 Periodicals

* * * * *

8.0 Record Keeping Standards for Publishers

* * * * *

8.1 Basic Standards

* * * * *

[Replace 8.1.3 to read as follows:]

8.1.3 Retention

The publisher must keep records for each issue of a publication for 3 years from its issue date, except for circulation records for general or requester publications for which USPS verification of circulation is done by a USPS-authorized audit bureau. In addition, the publisher must retain records for paid subscribers for 12 months following the issue date. A publisher whose records are verified by an authorized audit bureau is not required to keep source records of requests and subscriptions longer than required by the audit bureau, provided, however, the authorized audit bureau shall be required to retain records related to such requests and subscriptions for 3 years following each issue date.

8.2 Verification

* * * * *

[Replace 8.2.2 to read as follows:]

8.2.2 Authorized Verification

USPS employees or an authorized audit bureau may conduct verifications of circulation for an application for Periodicals mailing privileges, reentry application, or other required circulation verification of general or requester publications, provided, however, that the Postal Service will have the authority to review audit procedures upon request. In addition, the Postal Service reserves the right to verify each audit bureau's compliance with such audit procedures. The Postal Service shall have the authority to revoke any audit bureau's authorization to conduct verifications if it finds such audit bureau has failed to follow approved audit procedures.

Joshua J. Hofer,
Attorney, Ethics & Legal Compliance.

[FR Doc. 2022-14500 Filed 7-6-22; 8:45 am]

BILLING CODE 7710-12-P